DEPARTMENT OF COMMERCE

National Oceanic and Atmospheric Administration

Meeting of the Advisory Committee on Commercial Remote Sensing

ACTION: Notice of meeting.

SUMMARY: The Advisory Committee on Commercial Remote Sensing (“ACCRES”) will meet for 1 full-day meeting on August 24, 2022.

DATES: The meeting is scheduled as follows August 24, 2022, from 9:00 a.m.-3:00 p.m. Eastern Daylight Time (EDT).

ADDRESSES: The meeting will be a virtual event all participants will attend virtually via GoToWebinar.

FOR FURTHER INFORMATION CONTACT: Alan Robinson, NOAA/NESDIS/CRSRA, 1335 East-West Highway, G-101, Silver Spring, Maryland 20910; 301-704-5882 or CRSRA@noaa.gov.

SUPPLEMENTARY INFORMATION: As required by Section 10(a)(2) of the Federal Advisory Committee Act, 5 U.S.C. App. (FACA) and its implementing regulations, see 41 CFR 102-3.150, notice is hereby given of the meeting of ACCRES. ACCRES was established by the Secretary of Commerce (Secretary) on May 21, 2002, to advise the Secretary through the Under Secretary of Commerce for Oceans and Atmosphere on matters relating to the U.S. commercial remote sensing space industry and on the National Oceanic and Atmospheric Administration's activities to carry out the responsibilities of the Department of Commerce set forth in the National and Commercial Space Programs Act of 2010 (51 U.S.C. 60101 et seq.).

Purpose of the Meeting and Matters To Be Considered

The meeting will be open to the public pursuant to Section 10(a)(1) of the FACA. During the meeting, the Committee will hear Commercial Satellite Imaging regulations from International Regulators, and from US government leadership on their vision for the development of the Remote Sensing industry.

Additional Information and Public Comments

The meeting will be held over one full day and will be conducted via GoToWebinar. Please register for the meeting through the link: https://attendee.gotowebinar.com/rt/4789727055944349455. This event is accessible to individuals with disabilities. For all other special accommodation requests, please contact CRSRA@noaa.gov. This webinar is an NOAA ACCRES public meeting and will be recorded and transcribed. If you have public comments, you acknowledge you may be recorded and are aware you can opt-out of the meeting. Both the meeting minutes and presentations will be posted on the ACCRES website. The agenda, speakers, and times are subject to change. For updates, please check online at https://www.nesdis.noaa.gov/CRSRA/accresMeetings.html.

Public comments are encouraged. Individuals or groups who would like to submit advance written comments, please email them to Alan.Robinson@noaa.gov and CRSRA@noaa.gov.

Stephen M. Volz,
Assistant Administrator for Satellite and Information Services.

[FR Doc. 2022-17213 Filed 8-10-22; 8:45 am]

BILLING CODE 3510-HR-P